DEPARTMENT OF LABOR

Employment and Training Administration

[TA-W-52,948]

Gary Works, a Subsidiary of United States Steel Corporation, Gary, IN; Notice of Termination of Investigation

Pursuant to Section 221 of the Trade Act of 1974, as amended, an investigation was initiated on September 24, 2003 in response to a petition filed by a company official on behalf of workers at Gary Works, a subsidiary of United States Steel Corporation, Gary, Indiana.

The petitioner has requested that the petition be withdrawn. Consequently, the investigation has been terminated.

Signed at Washington, DC this 17th day of October, 2003.
Richard Church,
Certifying Officer, Division of Trade Adjustment Assistance.

[FR Doc. 03-29271 Filed 11-21-03; 8:45 am]

BILLING CODE 4510-30-P